DEPARTMENT OF COMMERCE

National Oceanic and Atmospheric Administration

50 CFR Part 648

[Docket No. 130408348-3835-02]

RIN 0648-BD17

Fisheries of the Northeastern United States; Atlantic Herring Fishery; Framework Adjustment 2 and Specifications

Correction

In rule document 2013-24271 appearing on pages 61828 through 61838 in the issue of Friday, October 4, 2013, make the following correction:

1. On page 61828, in the second column, in the DATES section, “Effective September 30, 2014” should read “Effective September 30, 2013”.

[FR Doc. C1-2013-24271 Filed 10-21-13; 8:45 am]

BILLING CODE 1505-01-D